COMMITTEE FOR THE IMPLEMENTATION OF TEXTILE AGREEMENTS

Establishment of Import Limits for Certain Cotton, Wool and Man-Made Fiber Textiles and Textile Products Produced or Manufactured in the Socialist Republic of Vietnam

December 13, 2005.

AGENCY: Committee for the Implementation of Textile Agreements (CITA).

Action: Issuing a directive to the Commissioner, Bureau of Customs and Border Protection establishing limits

EFFECTIVE DATE: January 1, 2006.

FOR FURTHER INFORMATION CONTACT: Ross Arnold, International Trade Specialist, Office of Textiles and Apparel, U.S. Department of Commerce (202) 482-4212. For information on the quota status of these limits, refer to the Bureau of Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The Bilateral Textile Agreement of July 17, 2003, as amended on July 22, 2004, between the Governments of the United States and the Socialist Republic of Vietnam, establishes limits for certain cotton, wool and man-made fiber textiles and textile products, produced or manufactured in the Socialist Republic of Vietnam and exported during the period January 1, 2006 through December 31, 2006.

In the letter published below, the Chairman of CITA directs the Commissioner, Bureau of Customs and Border Protection to establish the 2006 limits.

These limits may be revised if Vietnam becomes a member of the World Trade Organization (WTO) and the United States applies the WTO agreement to Vietnam.

A description of the textile and apparel categories in terms of HTS numbers is available in the CORRELATION: Textile and Apparel Categories with the Harmonized Tariff Schedule of the United States (refer to the Office of Textiles and Apparel website at http://otexa.ita.doc.gov).

Philip J. Martello,
Acting Chairman, Committee for the Implementation of Textile Agreements.

Committee for the Implementation of Textile Agreements

December 13, 2005.

Commissioner,

Bureau of Customs and Border Protection, Washington, DC 20229.

Dear Commissioner: Pursuant to section 204 of the Agricultural Act of 1956, as amended (7 U.S.C. 1854); and Executive Order 11651 of March 3, 1972, as amended, and the bilateral textile agreement of July 17, 2003, as amended on July 22, 2004, between the Governments of the United States and the Socialist Republic of Vietnam, you are directed to prohibit, effective on January 1, 2006, entry into the United States for consumption and withdrawal from warehouse for consumption of cotton, wool and man-made fiber textiles and textile products in the following categories, produced or manufactured in Vietnam and exported during the twelve-month period beginning on January 1, 2006 and extending through December 31, 2006 in excess of the following levels of restraint:

Category | Restraint limit
200 | 367,513 kilograms.
301 | 833,029 kilograms.
332 | 1,225,043 dozen pairs.
333 | 44,101 dozen.
334/335 | 790,375 dozen.
338/339 | 16,402,811 dozen.
340/640 | 2,433,201 dozen.
341/641 | 932,969 dozen.
342/642 | 661,770 dozen.
345 | 348,969 dozen.
347/348 | 8,325,564 dozen.
351/651 | 584,933 dozen.
352/652 | 2,228,480 dozen.
359-C/659-C ¹ | 397,928 kilograms.
359-S/659-S ² | 643,148 kilograms.
434 | 17,191 dozen.
435 | 42,416 dozen.
440 | 2,653 dozen.
447 | 55,183 dozen.
448 | 33,959 dozen.
620 | 7,796,174 square meters.
632 | 612,522 dozen pairs.
638/639 | 1,462,269 dozen.
645/646 | 236,437 dozen.
647/648 | 2,377,827 dozen.
¹ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
² Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.

The limits set forth above are subject to adjustment pursuant to the current bilateral agreement between the Governments of the United States and the Socialist Republic of Vietnam.

Products in the above categories exported during 2005 shall be charged to the applicable category limits for that year (see directive dated September 20, 2004) to the extent of any unfilled balances. In the event the limits established for that period have been exhausted by previous entries, such products shall be charged to the limits set forth in this directive.

These limits may be revised if Vietnam becomes a member of the World Trade Organization (WTO) and the United States applies the WTO agreement to Vietnam.

In carrying out the above directions, the Commissioner of Customs and Border Protection should construe entry into the United States for consumption to include entry for consumption into the Commonwealth of Puerto Rico.

The Committee for the Implementation of Textile Agreements has determined that these actions fall within the foreign affairs exception of the rulemaking provisions of 5 U.S.C. 553(a)(1).

Sincerely,

Philip J. Martello,

Acting Chairman, Committee for the Implementation of Textile Agreements.

[FR Doc. 05-24178 Filed 12-16-05; 8:45 am]

BILLING CODE 3510-DS